DEPARTMENT OF TRANSPORTATION

Office of the Secretary

[Docket No. OST-2005-22114]

RIN 2105-AD53

Time Zone Boundaries in the State of Indiana

AGENCY: Office of the Secretary, DOT.

ACTION: Correction notice.

SUMMARY: This notice corrects the docket number identified in the August 17, 2005 publication of a notice to initiate proceedings to hold hearings in the appropriate locations in Indiana on the issue of the location of the boundary between the Eastern and Central Time Zones in Indiana.

DATE: Effective Date: August 22, 2005.

ADDRESSES: You may submit petitions [identified by the docket number in the heading at the beginning of this document] by any of the following methods:

• Web site: http://dms.dot.gov. Follow the instructions for submitting petitions on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

FOR FURTHER INFORMATION CONTACT: Joanne Petrie, Office of the General Counsel (C-50), 400 Seventh Street, SW., Washington, DC 20590; e-mail indianatime@dot.gov.; (202) 366-9306.

SUPPLEMENTARY INFORMATION: The notice published on August 17, 2005 (70 FR 48460) incorrectly identified the docket number for submitting petitions as 22119. The correct docket number for submitting petitions is 22114. Any petitions submitted to the incorrect docket number will appear under the correct docket number. This correction notice is to rectify that typographical mistake.

Issued in Washington, DC, this 18th day of August, 2005,
Robert Ashby,
Deputy Assistant General Counsel.

[FR Doc. 05-16703 Filed 8-18-05; 1:27 pm]

BILLING CODE 4910-62-P